INTERNATIONAL TRADE COMMISSION

[USITC SE-07-004]

Government in the Sunshine Act Meeting; Notice

Agency Holding the Meeting: United States International Trade Commission.

Time and Date: March 26, 2007 at 1 p.m.

Place: Room 101, 500 E Street SW., Washington, DC 20436, Telephone: (202) 205-2000.

Status: Open to the public.

Matters to be Considered: 1. Agenda for future meetings: none.

2. Minutes.

3. Ratification List.

4. Inv. No. 731-TA-1110 (Preliminary)(Sodium Hexametaphosphate from China)—briefing and vote. (The Commission is currently scheduled to transmit its determination to the Secretary of Commerce on March 26, 2007; Commissioners' opinions are currently scheduled to be transmitted to the Secretary of Commerce on or before April 2, 2007.).

5. Outstanding action jackets: none.

In accordance with Commission policy, subject matter listed above, not disposed of at the scheduled meeting, may be carried over to the agenda of the following meeting.

Issued: March 19, 2007.
By order of the Commission.
Marilyn R. Abbott,
Secretary to the Commission.

[FR Doc. 07-1444 Filed 3-20-07; 2:22 pm]

BILLING CODE 7020-02-P